DEPARTMENT OF COMMERCE

National Oceanic and Atmospheric Administration

RIN 0648-XB83

Marine Mammals; Pinniped Removal Authority

AGENCY: National Marine Fisheries Service (NMFS), National Oceanic and Atmospheric Administration (NOAA), Commerce.

ACTION: Notice.

SUMMARY: NMFS announces the establishment of a Pinniped-Fishery Interaction Task Force (Task Force) under the Marine Mammal Protection Act (MMPA) in response to an application from Oregon, Washington, and Idaho requesting authorization to intentionally take, by lethal methods, individually identifiable California sea lions (Zalophus californianus) that prey on Pacific salmon and steelhead (Onchorhynchus spp.) listed as threatened or endangered under the Endangered Species Act (ESA) in the Columbia River in Washington and Oregon. The Task Force will be convened at its first meeting, which is open to the public.

DATES: The first public meeting of the Task Force is September 4-5, 2007, beginning at 9:30 a.m.

ADDRESSES: The Task Force meeting will be held at the Double Tree Lloyd Center, Executive Meeting Center, 1000 NE Multnomah, Portland, Oregon 97232.

FOR FURTHER INFORMATION CONTACT: Garth Griffin, (503) 231-2005, or Tom Eagle, (301) 713-2322, ext. 105.

SUPPLEMENTARY INFORMATION:

Electronic Access

The states' application, associated Federal Register notices, and background information on pinniped predation on listed salmonids and on non-lethal efforts to address the predation are available via the Internet at the following address: http://www.nwr.noaa.gov.

Background

On December 5, 2006, NMFS received an application co-signed by the Washington Department of Fish and Wildlife (WDFW), the Oregon Department of Fish and Wildlife (ODFW) and the Idaho Department of Fish and Game (IDFG) requesting authorization to intentionally take, by lethal methods, individually identifiable California sea lions in the Columbia River, which are having a significant negative impact on the recovery of threatened and endangered Pacific salmon and steelhead. The application describes studies conducted by the U.S. Army Corps of Engineers, Fisheries Field Unit that document pinniped predation in the Bonneville Dam tailrace, including dates, numbers of pinnipeds present, numbers of salmonids consumed, and the estimated proportion of all salmonids passing Bonneville that are taken by pinnipeds foraging in the tailrace of the dam. In accordance with section 120 of the MMPA (16 U.S.C. 1361, et seq.) NMFS reviewed the states' application and determined that it provided sufficient evidence to warrant the establishment of a Task Force, whose purpose is to recommend whether NMFS should authorize the intentional lethal taking of California sea lions that prey on ESA-listed salmonids in the Columbia River. NMFS published a notice of receipt and acceptance of the states' application, along with an explanation of the section 120 process, in the Federal Register on January 30, 2007 (72 FR 4239) with a request for public comments. The public comment period closed on April 2, 2007. NMFS received 288 comments in response to the notice and 29 Task Force nominations.

NMFS announces that, effective September 4, 2007, the Task Force will be established and will consist of 18 members including designated employees of the Department of Commerce, scientists who are knowledgeable about the pinniped-fishery interactions, representatives of affected conservation and fishing community organizations, Indian Treaty Tribes, the states, and the U.S. Army Corps of Engineers, which operates the dam. Under section 120, within 60 days, and after reviewing public comments in response to the Federal Register notice, the Task Force shall:

(1) Recommend to NMFS whether to approve or deny the proposed intentional lethal taking of pinnipeds, including along with the recommendation a description of the specific pinniped individuals, the proposed location, time and method of such taking, criteria for evaluating the success of the action and the duration of the intentional lethal taking authority; and

(2) Suggest non-lethal alternatives, if available and practicable, including a recommended course of action.

In considering whether to recommend approval or disapproval of the states' application the Task Force is to consider:

(1) Population trends, feeding habits, the location of the pinniped interaction, how and when the interaction occurs, and how many individual pinnipeds are involved;

(2) Past efforts to deter such pinnipeds, and whether the applicant has demonstrated that no feasible and prudent alternatives exist and that the applicant has taken all reasonable non-lethal steps without success;

(3) The extent to which such pinnipeds are causing undue injury to, or imbalance with, other species in the ecosystem, including fish populations; and

(4) The extent to which such pinnipeds are exhibiting behavior that presents an ongoing threat to public safety.

All Task Force meetings will be open to the public, but the public will not be allowed to discuss or debate issues with Task Force members at the meetings. NMFS intends to have a predesignated, limited amount of time at the Task Force's first meeting and, if practicable, at subsequent meetings, to allow the public to provide new or relevant information that may assist the Task Force in its deliberations. Subsequent meetings will be determined by the Task Force. Public notice of subsequent meetings of the Task Force will be announced through NOAA Press Releases and postings on the NMFS Northwest Region website (see Electronic Access). The public may contact the NOAA Public Affairs Office in Seattle at 206-526-6172 to obtain more detailed information on the Task Force meeting dates, times and locations.

Within 60 days of its first meeting, the Task Force is to provide recommendations based on its review of the available information as listed in the statute and outlined above, comments received from the public and full discussion of alternatives for addressing the pinniped-fishery interaction below Bonneville Dam. The Task Force will be asked to develop recommendations that document the points of consensus reached by the group as well as reporting the alternate points of view when consensus is not reached. All recommendations submitted by the Task Force should fairly reflect the full range of opinion and diversity of the group. To enhance this process, NMFS has contracted with a professional facilitator to manage the Task Force, record meeting notes, and assist the group in assembling its recommendations.

The Task Force should address those considerations outlined above in formulating its recommendations. In addition, NMFS will request that the Task Force answer the following questions when preparing its recommendation for approval or disapproval of the states' application to lethally remove pinnipeds.

1. What criteria does the Task Force recommend to assist NMFS in the interpretation of “significant negative impact” and the extent to which pinnipeds are causing undue injury or impact to, or imbalance with listed species?

2. If available and practicable, what non-lethal measures does the Task Force recommend be taken prior to implementing lethal removal?

3. If lethal removal is included in its recommendations, what criteria did the Task Force use to individually identify the specific animals to be removed and which animals meet those criteria at the time the Task Force completed its deliberations?

4. If lethal removal is included in its recommendations, does the Task Force recommend a limit to the number of sea lions that may be removed and if so what is the justification for that limit?

5. If lethal removal is included in its recommendations, what limitations (if any) would the Task Force recommend on timing, location, take methods or duration of the authorization?

6. For purposes of post-implementation evaluation, what criteria does the Task Force recommend for evaluating whether the implementation of the Task Force recommendations has been successful in addressing the pinniped-fishery interaction?

7. Regardless of the outcome of this process, what might be the most effective means to achieve a long-term resolution to the pinniped-fishery conflict?

Once the Task Force has completed its deliberations and submitted its recommendations, NMFS will determine a course of action informed by the Task Force recommendations. The ultimate decision to approve or deny the states' application, and any terms or conditions applied to any approval, lies solely with NMFS.

If the application for lethal removal authority is approved, the MMPA requires that the Task Force evaluate the effectiveness of the permitted intentional lethal taking or alternative actions implemented. Accordingly, the Task Force may need to meet again after actions to address the pinniped-fishery interaction have been implemented. If implementation is found to be ineffective in eliminating the problem interaction, NMFS will ask the Task Force to recommend additional actions. If the implementation is effective, the Task Force shall so advise NMFS and the Task Force will be disbanded.

In accordance with the MMPA, upon receipt of the recommendations from the Task Force, NMFS will have 30 days to decide whether to approve or deny the states' application for lethal removal. Notice of NMFS' final decision will be published in the Federal Register.

Dated: August 3, 2007.
James H. Lecky,
Director, Office of Protected Resources, National Marine Fisheries Service.

[FR Doc. E7-15516 Filed 8-8-07; 8:45 am]

BILLING CODE 3510-22-S